DEPARTMENT OF TRANSPORTATION

Federal Aviation Administration

14 CFR Part 39

[Docket No. 2000-CE-50-AD; Amendment 39-12951; AD 2002-23-07]

RIN 2120-AA64

Airworthiness Directives; Cameron Balloons Ltd. (Sky Balloons) Mk1 (BR1) & Mk2 (Mistral) Burners

AGENCY: Federal Aviation Administration, DOT.

ACTION: Final rule.

SUMMARY: This amendment adopts a new airworthiness directive (AD) that applies to all aircraft (specifically balloons) that incorporate certain Cameron Balloons Ltd. (Sky Balloons) Mk1 (BR1) & Mk2 (Mistral) burners. This AD requires you to replace the valve stems of the main blast, liquid fire, and pilot light valves. This AD is the result of mandatory continuing airworthiness information (MCAI) issued by the airworthiness authority for the United Kingdom. The actions specified by this AD are intended to correct the mechanical failure of the valve stem/seat pinned joint, which could result in a propane vapor leak. Such failure could lead to a propane explosion and fire.

DATES: This AD becomes effective on January 7, 2003.

The Director of the Federal Register approved the incorporation by reference of certain publications listed in the regulations as of January 7, 2003.

ADDRESSES: You may get the service information referenced in this AD from Cameron Balloons Ltd. (Sky Balloons), St. Johns Street, Bedminster, Bristol; BS3 4NH; telephone: +44 (0)117 9637216; facsimile: +44 (0)177 966168; or Cameron Balloons, PO Box 3672, Ann Arbor, Michigan 46106; telephone: (734) 426-5525; facsimile: (734) 426-5026. You may view this information at the Federal Aviation Administration (FAA), Central Region, Office of the Regional Counsel, Attention: Rules Docket No. 2000-CE-50-AD, 901 Locust, Room 506, Kansas City, Missouri 64106; or at the Office of the Federal Register, 800 North Capitol Street, NW., Suite 700, Washington, DC.

FOR FURTHER INFORMATION CONTACT: Roger Chudy, Aerospace Engineer, FAA, Small Airplane Directorate, 901 Locust, Room 301, Kansas City, Missouri 64106; telephone: (816) 329-4140; facsimile: (816) 329-4090.

SUPPLEMENTARY INFORMATION:

Discussion

What Events Have Caused This AD?

The Civil Aviation Authority (CAA), which is the airworthiness authority for the United Kingdom, recently notified the FAA that an unsafe condition may exist on aircraft (specifically balloons) that incorporate certain Cameron Balloons Ltd. (Sky Balloons) Mk1 (BR1) & Mk2 (Mistral) burners. The CAA reports there have been reports of mechanical failure of the valve stem/seat pinned joint. This could result in a propane vapor leak.

What Is the Potential Impact if FAA Took No Action?

This condition, if not corrected, could lead to a propane explosion and fire.

Has FAA Taken Any Action to This Point?

We issued a proposal to amend part 39 of the Federal Aviation Regulations (14 CFR part 39) to include an AD that would apply to all aircraft (specifically balloons) that incorporate certain Cameron Balloons Ltd. (Sky Balloons) Mk1 (BR1) & Mk2 (Mistral) burners. This proposal was published in the Federal Register as a notice of proposed rulemaking (NPRM) on September 13, 2002 (67 FR 57992). The NPRM proposed to require you to replace the valve stems in the main blast, liquid fire, and pilot light valves.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Aircraft Does This AD Impact?

We estimate that this AD affects 100 aircraft (specifically balloons) in the U.S. registry.

What Is the Cost Impact of This AD on Owners/Operators of the Affected Aircraft?

We estimate the following costs to accomplish the modification:

Labor cost | Parts cost | Total cost per aircraft | Total cost on U.S. operators
1 workhour × $60 per hour = $60 | $35 per burner | $60 + $35 = $95 | $95 × 100 = $9,500

Why Is a Compliance of 20 Hours Time-in-Service (TIS) Used for the Actions of This AD?

Normally, FAA uses a 20-hour TIS compliance time for urgent safety of flight conditions. However, balloon operation varies among operators. It might take operators between 3 months to 12 months or more to accumulate 20 hours TIS. For this reason, FAA has determined that compliance time of this AD should be 20 hours TIS to ensure this condition is corrected in a timely manner but does not unduly penalize operators.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-23-07 Cameron Balloons Ltd. (Sky Balloons): Amendment 39-12951; Docket No. 2000-CE-50-AD

.

(a) What aircraft are affected by this AD? This AD affects any aircraft (specifically balloons), certificated in any category, that incorporate at least one of the following burners:

Model | Serial Nos.
Mk1 (BR1) | 001 through 098, 100, and 101.
Mk2 (Mistral) | 001 through 098, 100, and 101.

(b) Who must comply with this AD? Anyone who wishes to operate any aircraft (specifically balloons) with the equipment identified in paragraph (a) of this AD must comply with this AD.

(c) What problem does this AD address? The actions specified by this AD are intended to correct the mechanical failure of the valve stem/seat pinned joint, which could result in a propane vapor leak. Such failure could lead to a propane explosion and fire.

(d) What actions must I accomplish to address this problem? To address this problem, you must accomplish the following:

Actions | Compliance | Procedures
(1) On the main blast, liquid fire, and pilot light valves of the Mk1 (BR1) and Mk2 (Mistral) burners, replace: (i) Valve stem part number (P/N) A4/BR1/2000/012 with a new improved-design valve, P/N CB6425; (ii) Valve stem P/N A4/BR2/2000/006 with a new improved-design valve, P/N CB6426; and | Within 20 hours time-in-service after January 7, 2003 (the effective date of this AD), unless already accomplished | In accordance with Cameron Balloons LTD (Sky Balloons) Service Bulletin No. SB10, Issue A, dated May 12, 2000.
(iii) Rubber sealing ring with O-ring P/N BS1806-008.
(2) Only install: (i) Valves that are P/N CB6425 and P/N CB6426, or FAA-approved equivalent P/Ns; and | As of January 7, 2003 (the effective date of this AD) | Not Applicable.
(ii) O-ring P/N BS1806-008, or FAA-approved equivalent P/N.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each aircraft (specifically balloons) with a Cameron Balloons Ltd. (Sky Balloons) Mk1 or Mk2 burner identified in paragraph (a) of this AD, regardless of whether it has been modified, altered, or repaired in the area subject to the requirements of this AD. For aircraft (specifically balloons) that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roger Chudy, Aerospace Engineer, FAA, Small Airplane Directorate, 901 Locust, Room 301, Kansas City, Missouri 64106; telephone: (816) 329-4140; facsimile: (816) 329-4090.

(g) Are any service bulletins incorporated into this AD by reference? Actions required by this AD must be done in accordance with Cameron Balloons LTD (Sky Balloons) Service Bulletin No. SB10, Issue A, dated May 12, 2000. The Director of the Federal Register approved this incorporation by reference under 5 U.S.C. 552(a) and 1 CFR part 51. You may get copies from Cameron Balloons Ltd. (Sky Balloons), St. Johns Street, Bedminster, Bristol; BS3 4NH; telephone: +44 (0)117 9637216; facsimile: +44 (0)177 966168; or Cameron Balloons, PO Box 3672, Ann Arbor, Michigan 46106; telephone: (734) 426-5525; facsimile: (734) 426-5026. You may view copies at the FAA, Central Region, Office of the Regional Counsel, 901 Locust, Room 506, Kansas City, Missouri, or at the Office of the Federal Register, 800 North Capitol Street, NW., Suite 700, Washington, DC.

Note 2: The subject of this AD is addressed in British AD 003-05-2000, dated May 31, 2000.

(h) When does this amendment become effective? This amendment becomes effective on January 7, 2003.

Issued in Kansas City, Missouri, on November 8, 2002.
Michael Gallagher,
Manager, Small Airplane Directorate, Aircraft Certification Service.

[FR Doc. 02-29131 Filed 11-19-02; 8:45 am]

BILLING CODE 4910-13-P